DEPARTMENT OF VETERANS AFFAIRS

[OMB Control No. 2900-0777]

Agency Information Collection (Medical Foster Homes Record Keeping Requirements)

AGENCY: Veterans Health Administration, Department of Veterans Affairs.

ACTION: Under OMB Review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before February 23, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0777” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0777” in any correspondence.

SUPPLEMENTARY INFORMATION: Titles: Medical Foster Homes Recordkeeping Requirements

OMB Control Number: 2900-0777.

Type of Review: Revision of an approved collection.

Abstract: As proposed, § 17.74(q) contains a collection of information under the Paperwork Reduction Act (44 U.S.C. 3501-3521). Paragraph (q) of § 17.74 requires medical foster homes to comply with the recordkeeping requirements of 38 CFR 17.63(i) regarding facility records, and must document all inspection, testing, drills and maintenance activities required by this section. Such documentation must be maintained for 3 years or for the period specified by the applicable standards, whichever is longer. Documentation of emergency egress and relocation drills must include the date, time of day, length of time to evacuate the home, the name of each medical foster home caregiver who participated, the name of each resident, whether the resident participated, and whether the resident required assistance.

Affected Public: Individuals or households.

Estimated Total Annual Burden: 600 hours.

Estimated Average Burden Per Respondent: 3 minutes.

Frequency of Response: Annually

Estimated Number of Respondents: 1,800.

Dated: January 9, 2015.
By direction of the Secretary.
Crystal Rennie,
VA Clearance Officer, U.S. Department of Veterans Affairs.

[FR Doc. 2015-00911 Filed 1-21-15; 8:45 am]

BILLING CODE 8320-01-P